DEPARTMENT OF COMMERCE

International Trade Administration

[A-570-888]

Floor-Standing, Metal-Top Ironing Tables and Certain Parts Thereof From the People's Republic of China: Postponement of Final Antidumping Determination

AGENCY: Import Administration, International Trade Administration, Department of Commerce.

EFFECTIVE DATE: February 25, 2004.

FOR FURTHER INFORMATION CONTACT: Paige Rivas or Sam Zengotitabengoa at (202) 482-0651 or (202) 482-4195, respectively; AD/CVD Enforcement, Office 4, Group II, Import Administration, Room 1870, International Trade Administration, U.S. Department of Commerce, 14th Street and Constitution Avenue, NW., Washington, DC 20230.

SUMMARY: The Department of Commerce (the Department) is postponing the final determination in the antidumping duty investigation of floor-standing, metal-top ironing tables and certain parts thereof from the People's Republic of China.

SUPPLEMENTARY INFORMATION:

Postponement of Final Determination and Extension of Provisional Measures

On February 3, 2004, the Department published its affirmative preliminary determination of this antidumping duty investigation in the Federal Register. See Notice of Preliminary Determination of Sales at Less Than Fair Value: Floor-Standing, Metal-Top Ironing Tables and Certain Parts Thereof From the People's Republic of China, 69 FR 5127 (February 3, 2004). This notice of preliminary determination states that the Department will issue its final determination no later than 75 days after the date on which the Department issued its preliminary determination.

Section 735(a)(2)(A) of the Tariff Act of 1930, as amended (the Act), and 19 CFR 351.210(b)(2)(ii) provide that a final determination may be postponed until not later than 135 days after the date of the publication of the preliminary determination if, in the event of an affirmative preliminary determination, a request for such postponement is made by exporters who account for a significant proportion of exports of the subject merchandise. Additionally, the Department's regulations, at 19 CFR 351.210(e)(2), require that requests by respondents for postponement of a final determination be accompanied by a request for an extension of the provisional measures from a four-month period to not more than six months.

On January 30, 2004, in accordance with section 735(a)(2)(A) of the Act and 19 CFR 351.210(b)(2)(ii), Shunde Yongjian Housewares Co., Ltd. (Yongjian), a mandatory respondent in this investigation, requested that the Department postpone its final determination. On February 3, 2004, Yongjian requested that the Department fully extend the provisional measures by 60 days in accordance with sections 733(d) of the Act and 19 CFR 351.210(e)(2). Accordingly, pursuant to section 735(a)(2)(A) of the Act and 19 CFR 351.210(b)(2)(ii), we are postponing the final determination until no later than 135 days after the publication of the preliminary determination in the Federal Register (i.e., until no later than June 13, 2004), because: (1) The preliminary determination is affirmative, and therefore the exporters or producers have standing to request this postponement; and (2) the requesting exporter/producer accounts for a significant proportion of exports of the subject merchandise (see Memorandum from Thomas F. Futtner, Acting Office Director, Office 4, to Holly A. Kuga, Acting Deputy Assistant Secreatry, Group II, “Respondent Selection Memorandum,” dated September 10, 2003); and, (3) no compelling reasons for denial exist. Suspension of liquidation will be extended accordingly.

This notice of postponement is published pursuant to section 735(a) of the Act and 19 CFR 351.210(g).

Dated: February 19, 2004.
James J. Jochum,
Assistant Secretary for Import Administration.

[FR Doc. 04-4139 Filed 2-24-04; 8:45 am]

BILLING CODE 3510-DS-P